COMMISSION ON CIVIL RIGHTS

Sunshine Act Meeting

AGENCY: U.S. Commission on Civil Rights.

DATE AND TIME: Friday, February 16, 2001, 7:30 a.m.

PLACE: Wynhdham Miami Biscayne Bay Hotel, 1601 Biscayne Boulevard, Bahama Room, Miami, FL 33132.

STATUS:

Agenda

I. Approval of Agenda

II. Approval of Minutes of January 12, 2001 Meeting

III. Announcements

IV. Staff Director's Report

V. Final Report Card: The Civil Rights Performance of the Clinton Administration

VI. State Advisory Committee Report

• Reconciliation at a Crossroads: The Implications of Rice v. Cayetano on Programs for Native Hawaiians

VII. Future Agenda Items

CONTACT PERSON FOR FURTHER INFORMATION: Les Jin, Office of the Staff Director, (202) 376-7700.

9:00 a.m. Hearing to Begin

Edward A. Hailes, Jr.,
General Counsel.

[FR Doc. 01-3452 Filed 2-6-01; 4:25 pm]

BILLING CODE 6335-01-M